ENVIRONMENTAL PROTECTION AGENCY

40 CFR Part 62

[EPA-R03-OAR-2017-0509; FRL-9969-91-Region 3]

Approval and Promulgation of State Air Quality Plans for Designated Facilities and Pollutants; City of Philadelphia; Control of Emissions From Existing Sewage Sludge Incineration Units

AGENCY: Environmental Protection Agency (EPA).

ACTION: Proposed rule.

SUMMARY: The Environmental Protection Agency (EPA) is proposing to notify the public that it has received a negative declaration for the City of Philadelphia Air Management Services (Philadelphia AMS) for sewage sludge incineration (SSI) units. This negative declaration certifies that SSI units subject to the requirements of sections 111(d) and 129 of the Clean Air Act (CAA) do not exist within the City of Philadelphia in the Commonwealth of Pennsylvania. EPA is accepting the negative declaration in accordance with the requirements of the CAA. In the Final Rules section of this issue of the Federal Register, EPA is accepting the negative declaration as a direct final rule without prior proposal because the Agency views this as a noncontroversial submittal and anticipates no adverse comments. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by November 27, 2017.

ADDRESSES: Submit your comments, identified by Docket ID No. EPA-R03-OAR-2017-0509 at https://www.regulations.gov, or via email to aquino.marcos@epa.gov. For comments submitted at Regulations.gov, follow the online instructions for submitting comments. Once submitted, comments cannot be edited or removed from Regulations.gov. For either manner of submission, the EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Michael Gordon, (215) 814-2039, or by email at gordon.mike@epa.gov.

SUPPLEMENTARY INFORMATION: For further information regarding the negative declaration submitted by Philadelphia AMS for SSI units, please see the information provided in the technical support document in the rulemaking docket and in the direct final action, with the same title, that is located in the “Rules and Regulations” section of this issue of the Federal Register. The negative declaration letter submitted by Philadelphia AMS and technical support document in support of this action are also available online at www.regulations.gov.

Dated: October 11, 2017.
Cecil Rodrigues,
Acting Regional Administrator, Region III.

[FR Doc. 2017-23231 Filed 10-25-17; 8:45 am]

BILLING CODE 6560-50-P